DEPARTMENT OF JUSTICE

Drug Enforcement Administration

[Docket No. 08-16]

Four Seasons Distributors, Inc.; Order Accepting Settlement Agreement and Terminating Proceeding

On October 31, 2007, the Deputy Assistant Administrator, Office of Diversion Control, Drug Enforcement Administration, issued an Order to Show Cause to Four Seasons Distributors, Inc. (Respondent), of Belleville, Illinois. The Show Cause Order proposed the revocation of Respondent's Certificate of Registration, which authorizes it to distribute listed chemicals, and the denial of any pending applications to renew or modify the registration, on the ground that Respondent's registration is “inconsistent with the public interest.” ALJ Ex. 1 (citing 21 U.S.C. 823(h) & 824(d)).

Respondent, through its counsel, requested a hearing on the allegations and the matter was assigned to an agency Administrative Law Judge (ALJ), who conducted a hearing on April 21, 2008. Thereafter, on October 30, 2009, the ALJ issued her recommended decision. Therein, the ALJ found that the Government “ha[d] not met its burden of proof in showing that the Respondent's continued registration would be against the public interest” and recommended that its registration be continued. ALJ at 37. The Government apparently agreed as it did not file exceptions to the ALJ's decision. The ALJ then forwarded the record to me for final agency action.

Thereafter, the parties “reached a settlement of all administrative matters pending before” me and filed a joint motion which requests that I terminate the proceedings. Motion to Terminate Administrative Proceedings. The parties also included a copy of the Memorandum of Agreement, setting forth the terms of their settlement.

Having reviewed the ALJ's decision and the terms of the settlement agreement, I find that the settlement is appropriate and consistent with the public interest. Accordingly, the parties' motion to terminate the proceeding is hereby granted and the Order to Show Cause is dismissed.

It is so ordered.

Dated: April 1, 2011.
Michele M. Leonhart,
Administrator.

[FR Doc. 2011-8537 Filed 4-8-11; 8:45 am]

BILLING CODE 4410-09-P